FEDERAL COMMUNICATIONS COMMISSION

[DA 07-193]

LPTV and TV Translator Applications Mutually Exclusive Proposals

AGENCY: Federal Communications Commission.

ACTION: Notice.

SUMMARY: In this document, the Video Division of the Media Bureau announces a 60-day period beginning February 22, 2007 and ending April 23, 2007, for parties with proposals in the mutually exclusive (MX) groups listed in the Public Notice from the July-August 2000 filing window to enter into settlement agreements or otherwise resolve their mutual exclusivities by means of engineering solutions.

DATES: The deadline for submitting a settlement or engineering amendment is April 23, 2007.

FOR FURTHER INFORMATION CONTACT: Shaun Maher of the Video Division, Media Bureau, at (202) 418-1600.

SUPPLEMENTARY INFORMATION: On February 22, 2007, the Video Division of the Media Bureau released a Public Notice announcing a 60-day period beginning February 22, 2007 and ending April 23, 2007, for parties with proposals in the mutually exclusive (MX) groups listed in the Public Notice from the July-August 2000 filing window to enter into settlement agreements or otherwise resolve their mutual exclusivities by means of engineering solutions. Interested parties listed in the Attachment A to the Public Notice must submit their settlement or engineering amendment by 6 p.m. ET, April 23, 2007. The settlements or engineering amendments must be filed via the Commission's CDBS electronic filing system and paper-filed settlements and engineering amendments will not be accepted. Complete instructions for filing settlements and engineering amendments via CDBS were included in the Public Notice.

Paperwork Reduction Act Approval: The FCC Form 346 was assigned control number 3060-0016 and was approved by the Office of Management and Budget (OMB) on May 25, 2005. Section 73.3525 of the Commission's rules was assigned control number 3060-0213 and was approved by OMB on December 21, 2006.

Federal Communications Commission.
Barbara Kreisman,
Chief, Video Division, Media Bureau.

[FR Doc. E7-4539 Filed 3-13-07; 8:45 am]

BILLING CODE 6712-01-P